DEPARTMENT OF LABOR

Employment and Training Administration

[TA-W-60,612]

Riley Creek Lumber Company, Moyie Springs Mill, Currently Known as Idaho Forest Group, LLC Including On-Site Leased Workers From Industrial Personnel Moyie Springs, ID; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on January 26, 2007, applicable to workers of Riley Creek Lumber Company, Moyie Springs Mill, including on-site leased workers from Industrial Personnel, Moyie Springs, Idaho. The notice was published in the Federal Register on February 14, 2007 (72 FR 7087).

At the request of the State agency, the Department reviewed the certification for workers of the subject firm. The workers are engaged in the production of stud lumber.

The company reports that after an October 2008 merger, Riley Creek Lumber Company, Moyie Springs Mill is currently known as Idaho Forest Group.

Accordingly, the certification is being amended to include workers of the subject firm whose UI wages are reported under the successor firm, Idaho Forest Group, LLC, Moyie Springs, Idaho.

The amended notice applicable to TA-W-60,612 is hereby issued as follows:

All workers of Riley Creek Lumber, Moyie Springs Mill, currently known as Idaho Forest Group, LLC, including on-site leased workers from Industrial Personnel, Moyie Springs, Idaho, who became totally or partially separated from employment on or after December 13, 2005, through January 26, 2009, are eligible to apply for adjustment assistance under Section 223 of the Trade Act of 1974, and are also eligible to apply for alternative trade adjustment assistance under Section 246 of the Trade Act of 1974.

Signed at Washington, DC this 12th day of January 2009.
Linda G. Poole,
Certifying Officer, Division of Trade Adjustment Assistance.

[FR Doc. E9-1485 Filed 1-23-09; 8:45 am]

BILLING CODE 4510-FN-P